DEPARTMENT OF HEALTH AND HUMAN SERVICES

Centers for Disease Control and Prevention

[60Day-22-22BB; Docket No. CDC-2021-0127]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Building Resilience Against Climate Effects (BRACE) Performance Measures.” The National Center for Environmental Health's Climate and Health Program (CHP) supports U.S. cities and states to build and enhance resilience to the health impacts of climate change.

DATES: CDC must receive written comments on or before February 4, 2022.

ADDRESSES: You may submit comments, identified by Docket No. CDC-2021-0127 by any of the following methods:

• Federal eRulemaking Portal: Regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road, NE, MS H21-8, Atlanta, Georgia 30329; phone: 404-639-7118; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Building Resilience Against Climate Effects (BRACE) Performance Measures—New—National Center for Environmental Health (NCEH), Centers for Disease Control and Prevention (CDC).

Background and Brief Description

The purpose of this information collection request (ICR) is to continue the Climate and Health Program (CHP) monitoring of recipient programs' planning and delivery of public health activities and adaptation strategies under a new cooperative agreement Building Resilience Against Climate Effects: Implementing and Evaluating Adaptation Strategies that Protect and Promote Human Health (CDC-RFA-EH21-2101). CDC collects information related to each recipient's strategies and activities through performance measures (PMs) outlined by the cooperative agreement. A new PM electronic reporting tool has been developed, which will allow recipients to report PM information in a streamlined way that will also enhance CHP's ability to analyze and use the information quickly to help support the program. Since its inception, the National Center for Environmental Health's (NCEH) CHP has funded state and local health departments or their agents as they prepare for and respond to the health effects that a changing climate will bring to the communities they serve. The primary funding mechanism for building climate resilience has been the Climate Ready States and Cities Initiative. The most recent notice of funding opportunity for the initiative is titled “Building Resilience Against Climate Effects: Implementing and Evaluation Adaptation Strategies that protect and Promote Human Health” (NOFO No. CDC RFA-EH21-2101).

We propose to collect PM data from up to 38 cooperative agreement recipients (state, local, and territorial health departments, or programs). The information will be used for multiple purposes: (1) To demonstrate program achievements, including positive effects in community or population health; (2) to build stronger evidence base for adaptations to climate change; (3) to demonstrate adaptation applicability and effectiveness across different populations, settings, and contexts; and (4) to support continuous improvement of the funded adaptation actions and their implementation. Recipients will submit standardized PM data on an annual basis via a newly developed electronic reporting tool, through a CDC-supported secure data collection and management system called REDCap.

CDC/NCEH requests OMB approval for and estimated 198 total annual burden hours. There are no costs to the respondents other than their time.

Estimated Annualized Burden Hours
Type of respondent | Form name | Number of respondents | Number of responses per respondent | Average burden per response (in hr) | Total burden (in hr)
BRACE Cooperative Agreement Recipients | Performance Measures Reporting Tool | 38 | 1 | 312/60 | 198
Total |  |  |  |  | 198

Jeffrey M. Zirger,
Lead, Information Collection Review Office, Office of Scientific Integrity, Office of Science, Centers for Disease Control and Prevention.

[FR Doc. 2021-26399 Filed 12-3-21; 8:45 am]

BILLING CODE 4163-18-P